FEDERAL RETIREMENT THRIFT INVESTMENT BOARD

Sunshine Act; Notice of Meeting

TIME AND DATE: 10 a.m. (EST) June 23, 2011.

PLACE: 4th Floor Conference Room, 1250 H Street, NW., Washington, DC.

STATUS: Open.

MATTERS TO BE CONSIDERED: 1. Approval of the minutes of the May 16, 2011 Board member meeting.

2. Thrift Savings Plan activity report by the Executive Director.

a. Monthly Performance Report.

b. Monthly Investment Report.

c. Legislative Report.

CONTACT PERSON FOR MORE INFORMATION: Thomas J. Trabucco, Director, Office of External Affairs, (202) 942-1640.

Dated: June 17, 2011.
Megan G. Grumbine,
Assistant General Counsel, Federal Retirement Thrift Investment Board.

[FR Doc. 2011-15649 Filed 6-17-11; 4:15 pm]

BILLING CODE 6760-01-P